DEPARTMENT OF JUSTICE

Notice of Lodging of Consent Decree Under the Comprehensive Environmental Response, Compensation, and Liability Act

On January 6, 2014, the Department of Justice lodged a proposed Consent Decree with the United States District Court for the Southern District of Illinois in the lawsuit entitled United States v. Schlumberger Technology Corp. and General Dynamics—Ordnance and Tactical Systems, Inc., Civil Action No. 3:11-CV-00399.

The Consent Decree would resolve claims alleged by the United States on behalf of the United States Environmental Protection Agency (“EPA”) and the United States Department of the Interior (“DOI”) pursuant to Section 107 of the Comprehensive Environmental Response, Compensation, and Liability Act of 1980, as amended (“CERCLA”), 42 U.S.C. 9607. The United States' Complaint asserts claims against Schlumberger Technology Corp. and General Dynamics—Ordnance and Tactical Systems, Inc., (“Defendants”), and seeks recovery of unreimbursed costs incurred for response activities undertaken in response to the release and threatened release of hazardous substances from facilities at and near Site 36 of the Miscellaneous Areas Operable Unit (“Site 36”) located at the Sangamo Electric Dump/Crab Orchard National Wildlife Refuge Site near Marion, Illinois. The unreimbursed costs total approximately $9.8 million.

The Proposed Consent Decree would also resolve counter-claims asserted by the Defendants against DOI, the United States Department of the Army, and the United States Federal Bureau of Prisons (“Counterclaim Defendant Agencies”); as well as third-party claims asserted by the Defendants against Crane Co., Illinois Tool Works, Olin Corporation, Sherwin-Williams Company, Mallinckrodt US LLC, Great Lakes Synergy Corporation, and Pennzoil-Quaker State Company (“Third-Party Defendants”). Under the proposed settlement, the United States would pay $5,621,985 on behalf of the Settling Federal Agencies and the private parties would pay an additional $4,167,458.

The publication of this notice opens a period for public comment on the Consent Decree. Comments should be addressed to the Assistant Attorney General, Environment and Natural Resources Division, and should refer to United States v. Schlumberger Technology Corp. and General Dynamics—Ordnance and Tactical Systems, Inc., D.J. Ref. No. 90-11-3-643/11. All comments must be submitted no later than thirty (30) days after the publication date of this notice. Comments may be submitted either by email or by mail:

To submit comments: | Send them to:
By email | pubcomment-ees.enrd@usdoj.gov.
By mail | Assistant Attorney General; U.S. DOJ—ENRD; P.O. Box 7611; Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.50 (25 cents per page reproduction cost) payable to the United States Treasury.

Maureen Katz,
Assistant Section Chief, Environmental Enforcement Section, Environment and Natural Resources Division.

[FR Doc. 2014-00365 Filed 1-10-14; 8:45 am]

BILLING CODE 4410-15-P